DEPARTMENT OF TRANSPORTATION

Federal Aviation Administration

14 CFR Part 71

[Docket No. FAA 2004-17493; Airspace Docket 04-ANM-04]

Amendment to Class D Airspace; Ogden, Hill Air Force Base, UT

AGENCY: Federal Aviation Administration (FAA), DOT.

ACTION: Final rule.

SUMMARY: This action amends the Class D airspace at Ogden, Hill Air Force Base, UT (Hill AFB) by clarifying the description of the Class D Airspace. The current airspace description could be confusing thereby making it difficult to interpret. This modification does not change the current boundaries or use of the affected airspace.

EFFECTIVE DATE: September 02, 2004.

FOR FURTHER INFORMATION CONTACT: Ed Haeseker, Air Traffic Division, Federal Aviation Administration, 1601 Lind Avenue SW., Renton, Washington 98055-4056; telephone (425) 227-2527.

SUPPLEMENTARY INFORMATION:

History

Current Class D airspace as described in Airspace Designations and Reporting Points Document 7400.9L dated September 02, 2003, and effective September 16, 2003, has been found to be confusing and is difficult to interpret. This clarifies that airspace description.

The Rule

This action amends Title 14 Code of Federal Regulations, part 71 (14 CFR part 71) by clarifying the description of the Class D airspace at Ogden, Hill AFB. The current airspace description is difficult to interpret. This modification does not change the current boundaries or the use of the affected airspace.

Class D airspace designations are published in paragraph 5000 of FAA Order 7400.9L dated September 02, 2003, and effective September 16, 2003, which is incorporated by reference in 14 CFR 71.1. The Class D airspace designation listed in this document will be published subsequently in this Order.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11013; February 26, 1979); and (3) does not warrant preparation of a regulatory evaluation as the anticipated impact is so minimal. Since this is a routine matter that will only affect air traffic procedures and air navigation, it is certified that this rule would not have a significant economic impact on a substantial number of small entities under the criteria of the Regulatory Flexibility Act.

List of Subjects in 14 CFR Part 71

Airspace, Incorporation by reference, Navigation (air).

Adoption of Amendment

Accordingly, pursuant to the authority delegated to me, the Federal Aviation Administration proposes to amend 14 CFR part 71 as follows:

PART 71—DESIGNATION OF CLASS A, CLASS B, CLASS C, CLASS D AND CLASS E AIRSPACE AREAS; AIRWAYS; ROUTES; AND REPORTING POINTS

1. The authority citation of 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR part 71 of the Federal Aviation Administration Order 7400.9L, Airspace Designations and Reporting Points, dated September 2, 2003, and effective September 16, 2003, is amended as follows:

Paragraph 5000 Class D Airspace Area.

ANM UT D Ogden, Hill AFB, UT [Amended]

Ogden, Hill AFB, UT

(Lat. 41°07′25″ N., long. 111°58′23″ W.)

Ogden-Hinckley Airport, UT

(Lat. 41°11′46″ N., long. 112°00′44″ W.)

That airspace extending upward from the surface to, but not including 7,800 feet MSL beginning east of the airport at the intersection of the 4.3 mile radius of the airport and the Ogden-Hinckley Airport 4.3 mile radius, extending west to the intersection of the 4.3 mile radius of the airport and the Ogden-Hinckley Airport 4.3 mile radius, thence counter clockwise to the point of beginning; excluding that airspace within the Ogden Hinckley Airport, UT, Class D airspace area when it is effective.

* * * * *

Issued in Seattle, Washington, on June 8, 2004.
John Warner,
Acting Manager, Air Traffic Division, Northwest Mountain Region.

[FR Doc. 04-13827 Filed 6-17-04; 8:45 am]

BILLING CODE 4910-13-M